ENVIRONMENTAL PROTECTION AGENCY

40 CFR Part 52

[Docket No. AK-24-1712a; FRL-6993-7]

Approval and Promulgation of Implementation Plans: Alaska

AGENCY: Environmental Protection Agency.

ACTION: Direct final rule.

SUMMARY: Environmental Protection Agency (EPA or we) approves the following revisions to the Alaska State Implementation Plan (SIP): a revision of the visible emission limit for coal burning boilers, during startup; shutdown; soot-blowing; grate cleaning; or other routine maintenance activities, that began operation before August 17, 1971, and submitted the required demonstration. Additionally, we are approving a revision to the definitions section that will add definitions of grate cleaning and soot-blowing. The Alaska Department of Environmental Conservation (ADEC) forwarded this submittal to EPA for inclusion in the Alaska SIP on November 1, 1999. These revisions were submitted for the purposes of complying with section 110 of the Clean Air Act.

DATES: This direct final rule will be effective August 20, 2001 without further notice, unless EPA receives adverse comment by July 20, 2001. If adverse comments are received, EPA will publish a timely withdrawal of the direct final rule in the Federal Register informing the public that the rule will not take effect.

ADDRESSES: Written comments should be addressed to: Roylene A. Cunningham, EPA Region 10, Office of Air Quality (OAQ-107), 1200 Sixth Avenue, Seattle, Washington 98101.

Documents which are incorporated by reference are available for public inspection at the Air and Radiation Docket and Information Center, Environmental Protection Agency, 401 M Street, SW, Washington, D.C. 20460. Copies of material submitted to EPA and other information supporting this action may be examined during normal business hours at the following locations: EPA Region 10, Office of Air Quality (OAQ-107), 1200 Sixth Avenue, Seattle, Washington 98101, and Alaska Department of Environmental Conservation, 410 Willoughby Avenue, Suite 105, Juneau, Alaska 99801-1795.

FOR FURTHER INFORMATION CONTACT: Roylene A. Cunningham, EPA Region 10, Office of Air Quality (OAQ-107), Seattle, Washington 98101, (206) 553-0513.

SUPPLEMENTARY INFORMATION:

Table of Contents

I. What revisions to the Alaska SIP are we approving?

A. Industrial Processes and Fuel-Burning Equipment [18 AAC 50.055(a)(9)]

B. Definitions [18 AAC 50.990]

II. What regulated pollutant(s) are affected by this revision?

III. Who does this revision apply to?

IV. What is the background of the Alaska SIP revision?

V. How has Alaska addressed maintenance of the PM-10 NAAQS?

VI. Summary of Action

VII. Administrative Requirements

I. What Revisions to the Alaska SIP Are We Approving?

A. Industrial Processes and Fuel-Burning Equipment (18 AAC 50.055(a)(9))

We are approving a revision of the visible emission limit for coal burning boilers, during startup; shutdown; soot-blowing; grate cleaning; or other routine maintenance activities, that began operation before August 17, 1971, and submitted the required demonstration.

18 AAC 50.055(a)(9) is being repealed and readopted to read as follows:

18 AAC 50.055. Industrial Processes and Fuel-Burning Equipment

(a) Visible emissions, excluding condensed water vapor, from an industrial process or fuel-burning equipment may not reduce visibility through the exhaust effluent by

* * * * *

(9) More than 20 percent for more than three minutes in any one hour, except for an additional three minutes in any one hour for a coal burning boiler that began operation before August 17, 1971, if

(A) The visible emissions are caused by startup, shutdown, soot-blowing, grate cleaning, or other routine maintenance specified in an operating permit issued under this chapter;

(B) The owner or operator of the boiler monitors visible emissions by continuous opacity monitoring instrumentation that;

(i) Conforms to Performance Specification 1 in 40 CFR 60, Appendix B, adopted by reference in 18 AAC 50.040; and

(ii) Completes one cycle of sampling and analyzing for each successive 15-second period;

(C) The owner or operator of the boiler provides the department with a demonstration that the particulate matter emissions from the boiler allowed by this opacity limit will not cause or contribute to a violation of the ambient air quality standards for PM-10 in 18 AAC 50.010, or cause the maximum allowable increases for PM-10 in 18 AAC 50.020 to be exceeded; and

(D) The Federal administrator approves a facility-specific revision to the State implementation plan, required under 42 U.S.C. 7410, authorizing the application of this opacity limit instead of the opacity limit otherwise applicable under this section.

B. Definitions (18 AAC 50.990)

We are approving revisions to this section with the addition of the definitions for grate cleaning and soot-blowing.

18 AAC 50.990 is amended by adding new paragraphs to read as follows:

18 AAC 50.990. Definitions

* * * * *

(106) “Grate cleaning” means removing ash from fireboxes;

(107) “Soot-blowing” means using steam or compressed air to remove carbon from a furnace or from a boiler's heat transfer surfaces.

II. What Regulated Pollutant(s) Are affected by This Revision?

The only regulated pollutant potentially affected by the change is particulate matter less than 10 microns in size (PM-10).

III. Who Does This Revision Apply To?

The coal burning boilers, located at the following facilities, that began operation before August 17, 1971: Golden Valley Electric Association (GVEA), Healy (Unit #1); Eielson Air Force Base, Fairbanks (6 units); Aurora Energy, Fairbanks (4 units); and Clear Air Force Base, Clear (3 units).

These four facilities provided ADEC with a demonstration that the particulate matter emissions from their boilers allowed by this revised visible emission limit will not cause a deleterious effect on any NAAQS, Prevention of Significant Deterioration (PSD) increment or visibility in Class I areas.

IV. What Is the Background of the Alaska SIP Revision?

The SIP revision for the opacity limit for coal burners was officially submitted to EPA on November 1, 1999. The rule was filed with the Lieutenant Governor for the State of Alaska on October 5, 1999, and was effective on November 4, 1999.

The affected facilities are subject to both 18 AAC 50.055(a)(1) and 18 AAC 50.055(b)(2)(A). Both of these provisions are in the State Implementation Plan.

18 AAC 50.055(a)(1) currently states that visible emissions shall not exceed an opacity limit of 20% for a total of more than three minutes in any one hour. The revised regulation has a 20% opacity limit, with a six minute exception in any one hour instead of the current three minute exception, for approved site specific coal burning boilers that began operation before August 17, 1971, if the visible emissions are caused by startup, shutdown, grate cleaning, or routine maintenance specified in an operating permit issued under 18 AAC 50.340.

18 AAC 50.055(b)(2)(A) states that total particulate emissions from the facility should not exceed 0.1 gr/dscf of exhaust gas corrected to standard conditions and averaged over three hours. This rule will remain unchanged.

According to the testing performed by the affected facilities, the particulate emissions and opacity are related but there is not a linear relationship between the two. Since opacity is used as a qualitative estimate of particulate emissions, the revised opacity standards during startup, shutdown, grate cleaning, and routine maintenance activities cannot be directly “input” into air quality models. However, the affected sources are still required to meet the State's particulate matter standard of 0.1 gr/dscf of exhaust gas, averaged over three hours. Therefore, the increase in allowable emissions due to the opacity change is limited by the particulate matter emission standard.

V. How Has Alaska Addressed Maintenance of the PM-10 NAAQS?

ADEC submitted a demonstration showing that the revised opacity limit for the four facilities with the affected coal burners would not result in exceedances of the 24-hour or Annual National Ambient Air Quality Standard (NAAQS) for particulate matter less than 10 microns in diameter (PM-10). The rationale was established through data collection and analysis from both source testing and modeling.

The facilities submitted particulate matter source test data that correlated to the measured opacity recorded during the tests. The ADEC calculated particulate matter emissions using the following formula contained in 18 ACC 50.220.

E=EM [(A+B)×S/(R×A)]+ENM[(R−S)/R−BS/(R×A)]

Where:

E=the total particulate emissions of the source in grains per dry standard cubic foot (gr/dscf).

EM=the particulate emissions in gr/dscf measured during the test that included the routine maintenance activity.

ENM=the arithmetic average of particulate emissions in gr/dscf measured by the test runs that did not include routine maintenance activity.

A=the period of routine maintenance activity occurring during the test run that included routine maintenance activity, expressed to the nearest hundredth of an hour.

B=the total period of the test run, less A.

R=the maximum period of source operation per 24 hours, expressed to the nearest hundredth of an hour.

S=the maximum period of routine maintenance activity per 24 hours, expressed to the nearest hundredth of an hour.

All calculated E, rounded to the nearest hundredth of a grain, were all within the 0.1 gr/dscf particulate matter standard (18 AAC 50.055(b)(2)(A)). The following assumptions were made: the soot-blowing activities emit the highest particulate emissions of the routine maintenance activities, so the soot-blowing demonstration was used to show compliance with the particulate standard for all routine maintenance activities. Soot-blowing duration is boiler dependent; however it lasts anywhere from 5 to 22 minutes and occurs every 6 hours; and startup and shutdown cannot be source tested because the operating conditions change rapidly and air flow is irregular. The ADEC does not require source testing during startup and shutdown operations.

A modeling protocol was developed and submitted to ADEC and EPA on September 11, 1997. The protocol discussed screening and refined modeling methodologies, procedures for calculating source emission parameters, meteorological and receptor data requirements and building downwash procedures.

The objective of the modeling was to demonstrate that revising the opacity standard would not result in exceedances of the 24-hour or Annual NAAQS for PM-10. Since all of the affected coal fired boilers were baseline units for PM-10 (i.e., in operation before the November 13, 1978) and the new allowable emissions are less than baseline actual emissions, a Prevention of Significant Deterioration increment analysis was not required.

The following general model assumptions were made: all four facilities used data from their particulate matter sources test taken during maximum allowed operating conditions; at least one run contained a routine maintenance activity (i.e., soot-blowing); and the maximum emission rate was 0.1 gr/dscf.

The modeling results showed that the affected facilities can demonstrate compliance with both the 24-hour and Annual NAAQS for PM-10 with the new revised opacity limit, as long as they also demonstrate compliance with the current grain loading standard of 0.1 gr/dscf.

In order to ensure continual compliance, ADEC will do the following. ADEC will include the startup, shutdown, grate cleaning and routine maintenance activities in the facility's operating permit issued under 18 AAC 50.340. Routine source testing and visible emission monitoring will be required. The frequency of monitoring and testing will be determined in each facility's operating permit on a case-by-case basis, depending on the specifics of the individual source.

VI. Summary of Action

While Alaska's SIP revision for the visible emission limit for coal burners is less stringent than the current visible emission limit, ADEC has demonstrated that there will be no deleterious effect on any NAAQS, Prevention of Significant Deterioration increment, or visibility in Class I areas. Therefore, we are approving a revision of the Industrial Processes and Fuel-Burning Equipment rule [18 AAC 50.055(a)(9)] for the visible emission limit of the affected coal burning boilers, located at the following facilities, that began operation before August 17, 1971 and submitted the required demonstration: Golden Valley Electric Association (GVEA), Healy (Unit #1); Eielson Air Force Base, Fairbanks (6 units); Aurora Energy, Fairbanks (4 units); and Clear Air Force Base, Clear (3 units). Additionally, we are approving a revision to the Definitions section [18 AAC 50.990] that will add definitions of grate cleaning and soot-blowing.

EPA is publishing this rule without prior proposal because the Agency views this as a noncontroversial submittal and anticipates no adverse comments. However, in the proposed rules section of this Federal Register publication, EPA is publishing a separate document that will serve as the proposal to approve the SIP revision should adverse comments be filed. This rule will be effective August 20, 2001 without further notice unless the Agency receives adverse comments by July 20, 2001.

If the EPA receives such comments, then EPA will publish a notice withdrawing the final rule and informing the public that the rule will not take effect. All public comments received will then be addressed in a subsequent final rule based on the proposed rule. The EPA will not institute a second comment period. Parties interested in commenting should do so at this time. If no such comments are received, the public is advised that this rule will be effective on August 20, 2001 and no further action will be taken on the proposed rule.

VII. Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Public Law 104-4). This rule also does not have a substantial direct effect on one or more Indian Tribes, on the relationship between the Federal Government and Indian Tribes, or on the distribution of power and responsibilities between the Federal Government and Indian Tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a State rule implementing a Federal standard, and does not alter the relationship or the distribution of power and responsibilities established in the Clean Air Act. This rule also is not subject to Executive Order 13045 (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2). This rule will be effective August 20, 2001 unless EPA receives adverse written comments by July 20, 2001.

Under section 307(b)(1) of the Clean Air Act, petitions for judicial review of this action must be filed in the United States Court of Appeals for the appropriate circuit by August 20, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2))

List of Subjects in 40 CFR Part 52

Environmental protection, Air pollution control, Incorporation by reference, Intergovernmental relations, Particulate matter, Reporting and recordkeeping requirements.

Note: Incorporation by reference of the Implementation Plan for the State of Alaska was approved by the Director of the Office of Federal Register on July 1, 1982.

Dated: May 30, 2001.
Michael A. Bussell,
Acting Regional Administrator, Region 10.

Part 52, chapter I, title 40 of the Code of Federal Regulations is amended as follows:

PART 52—[AMENDED]

1. The authority citation for Part 52 continues to read as follows:

Authority: 42 U.S.C. 7401 et seq.

Subpart C—Alaska

2. Section 52.70 is amended by adding paragraph (c)(30) to read as follows:

§ 52.70 Identification of plan.

(c) * * *

(30) On November 1, 1999, the Alaska Department of Environmental Conservation (ADEC) submitted a SIP revision to revise the visible emission limit for coal burning boilers, during startup; shutdown; soot-blowing; grate cleaning; or other routine maintenance activities, that began operation before August 17, 1971, and submitted the required demonstration. This SIP revision is approved for the following facilities that submitted the required demonstration: Golden Valley Electric Association (GVEA), Healy (Unit #1); Eielson Air Force Base, Fairbanks (6 units); Aurora Energy, Fairbanks (4 units); and Clear Air Force Base, Clear (3 units). Additionally, we are approving a revision to the definitions section that will add definitions of grate cleaning and soot-blowing.

(i) Incorporation by reference.

(A) 18 Alaska Administrative Code (AAC) 50.055(a)(9), Industrial Processes and Fuel-Burning Equipment; as State effective on November 4, 1999. 18 AAC 50.990, subsections (106) and (107), Definitions; as State effective on January 1, 2000.

[FR Doc. 01-15416 Filed 6-19-01; 8:45 am]

BILLING CODE 6560-50-P